NATIONAL AERONAUTICS AND SPACE ADMINISTRATION

[Notice: (19-062)]

National Space Council Users' Advisory Group; Meeting

AGENCY: National Aeronautics and Space Administration.

ACTION: Notice of Meeting.

SUMMARY: In accordance with the Federal Advisory Committee Act, as amended, the National Aeronautics and Space Administration (NASA) announces a meeting of the National Space Council Users' Advisory Group (UAG). This will be the fourth meeting of the UAG.

DATES: Monday, October 21, 2019, from 1:00 p.m.-5:00 p.m., Eastern Time.

ADDRESSES: Courtyard by Marriott, Washington Downtown/Convention Center, Shaw Ballroom, 901 L Street NW, Washington, DC 20001.

FOR FURTHER INFORMATION CONTACT: Mr. James Joseph Miller, UAG Designated Federal Officer/Executive Secretary, NASA Headquarters, Washington, DC 20546, (202) 358-4417 or jj.miller@nasa.gov.

SUPPLEMENTARY INFORMATION: This meeting will be open to the public up to the capacity of the meeting room. This meeting is also available telephonically and via WebEx. You must use a touch-tone phone to participate in this meeting. Any interested person may dial the Toll Free Number 1-844-467-6272 and then the numeric passcode 764096, followed by the # sign. NOTE: If dialing in, please “mute” your phone. To join via WebEx, the link is https://nasaenterprise.webex.com/nasaenterprise/j.php?MTID=m4d0c72b19cbb68933c7a7f9da564902c. The meeting number is 909 223 161 and the meeting password is jUj3pBS* (case sensitive).

The agenda for the meeting will include the following:

—Opening Remarks and Meeting Objectives by UAG Chair

—Expert Presentation on Global Navigation Satellite System (GNSS) Advancements for Space Operations and Science, per Subcommittee Focus Areas

—Reports and Updates from UAG Subcommittees:

○ Exploration and Discovery

○ Economic Development/Industrial Base

○ Outreach and Education

○ National Security Space

○ Space Policy and International Engagement

○ Technology and Innovation

—Preliminary Deliberations on any Findings and Recommendations

—Other UAG Business and Work Plan Schedule

Attendees will be requested to sign a register prior to entrance to the proceedings. Advance RSVPs are not a pre-requisite, but may expedite entry and should be sent to Mr. James Joseph Miller via email at jj.miller@nasa.gov. It is imperative that the meeting be held on this date to meet the scheduling availability of key participants, and is aligned with the opening day of the 70th annual International Astronautical Congress (IAC). For further information, visit the UAG website at: https://www.nasa.gov/content/national-space-council-users-advisory-group.

Patricia Rausch,
Advisory Committee Management Officer, National Aeronautics and Space Administration.

[FR Doc. 2019-21841 Filed 10-7-19; 8:45 am]

BILLING CODE 7510-13-P